DEPARTMENT OF TRANSPORTATION

Federal Aviation Administration

14 CFR Part 39

[Docket No. 2003-NM-19-AD; Amendment 39-13632; AD 2004-10-02]

RIN 2120-AA64

Airworthiness Directives; Airbus Model A300 B4-600, A300 B4-600R, and A300 F4-600R (Collectively Called A300-600), A310, A319, A320, A321, A330, and A340-200 and -300 Series Airplanes

AGENCY: Federal Aviation Administration, DOT.

ACTION: Final rule.

SUMMARY: This amendment adopts a new airworthiness directive (AD), applicable to certain Airbus Model A300-600, A310, A319, A320, A321, A330, and A340-200 and -300 series airplanes, that requires a one-time inspection to determine if certain Thales pitot probes are installed, a check for certain part numbers and serial numbers of the affected pitot probes, and cleaning of the drain hole of any affected pitot probes if obstructed. This action is necessary to prevent obstruction of the air intake of the pitot probes, which could result in misleading information being provided to the flightcrew. This action is intended to address the identified unsafe condition.

DATES: Effective June 22, 2004.

The incorporation by reference of certain publications listed in the regulations is approved by the Director of the Federal Register as of June 22, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call 202-741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300-600, A310, A319, A320, A321, A330, and A340 series airplanes was published in the Federal Register on February 6, 2004 (69 FR 5787). That action proposed to require a one-time inspection to determine if certain Thales pitot probes are installed, a check for certain part numbers and serial numbers of the affected pitot probes, and cleaning of the drain hole of any affected pitot probes if obstructed.

Comments

Interested persons have been afforded an opportunity to participate in the making of this amendment. Due consideration has been given to the comments received.

Supportive Comments

One commenter supports the proposed AD; another commenter has no objection to the proposed AD. The commenters generally support the intent of the proposed AD.

Request To Add Service Information

One commenter asks that the original issue of Airbus Service Bulletin A320-34-1263, dated November 26, 2002; be added to the final rule as an additional source of service information for accomplishment of the actions for Model A319, A320, and A321 series airplanes. Revision 01 was referenced in the proposed AD as the source of service information for accomplishment of the actions. The FAA agrees as there are no significant changes between the original version of the service bulletin and Revision 01. We have added the original issue of the service bulletin as an additional source of service information for accomplishment of the actions required by paragraph (a) of the final rule.

Request To Extend Compliance Time

One commenter asks that additional time be given for accomplishment of the actions specified in the proposed AD. The commenter asks that the compliance time of 700 flight hours, as specified in paragraph (a) of the proposed AD, be extended to 1,000 flight hours. The commenter states that this change will allow accomplishment of the actions at the commenter's normal maintenance cycle. The commenter adds that, to date, the unsafe condition has not been found on any of its fleet of 152 airplanes, which average 19,000 total accumulated flight hours. The commenter states that its maintenance task is performed at C-check intervals to inspect the pitot probes and drain holes for obstruction, with no negative findings to date. The commenter adds that this extension of the compliance time will not compromise safety and will allow the most efficient use of available tooling and manpower.

We do not agree. In developing an appropriate compliance time for this action, we considered the safety implications, operators' normal maintenance schedules, and the compliance time recommended by the airplane manufacturer for the timely accomplishment of the required actions. In consideration of these items, we have determined that a compliance time of 700 flight hours will ensure an acceptable level of safety and is an appropriate interval of time wherein the required actions can be accomplished during scheduled maintenance intervals for the majority of affected operators. However, according to the provisions of paragraph (b) of this final rule, we may approve requests to adjust the compliance time if the request includes data that justify that a different compliance time would provide an acceptable level of safety. We have not changed the final rule in this regard.

Request To Change Applicability

One commenter asks that the applicability in the proposed AD be changed to specify “Model A340-200 and -300 series airplanes.” The applicability in the proposed AD currently specifies Model A340 series airplanes. The commenter states that Model A340-500 and -600 series airplanes should be excluded from the applicability. In addition, the commenter asks that we add the part number (P/N) and serial numbers (S/Ns) for affected Thales Avionics pitot probes to the applicability.

We partially agree. We agree to remove Model A340-500 and -600 series airplanes from the applicability of the proposed AD, and to specify Model A340-200 and -300. Model A340-500 and -600 series airplanes are not affected by the proposed AD. We do not agree to add the P/N and S/Ns for affected Thales Avionics pitot probes. The applicability section in this final rule specifies “as listed in the applicable Airbus service bulletins.” Those service bulletins contain the P/N and S/Ns for affected Thales Avionics pitot probes.

Clarification of Applicability

One commenter does not ask for a specific change to the final rule, but states that “The applicability of French airworthiness directive 2003-148(B), dated April 16, 2003 (referenced in the proposed AD), is Airbus Model A310 and A300-600 series airplanes, all certified models, and all S/Ns fitted with Thales Avionics pitot probes, whose S/N is lower than or equal to 660.” The commenter adds that the applicability in the proposed AD seems to be “A one-time detailed visual inspection to determine if pitot probes 40DA, 41DA, and 42DA are installed, and a check of those pitot probes for P/N C16254AA and S/N 660 or higher, and cleaning of the drain hole of any affected pitot probe.” The commenter asks for clarification of the applicability in the proposed AD.

We infer that the commenter has inadvertently merged the requirements in the applicability section and in paragraph (a) of the proposed AD. For clarification, we have defined the applicability section and paragraph (a) of this AD for the commenter. The applicability specified in this final rule is as follows: “Airbus Model A300 B4-600, A300 B4-600R, and A300 F4-600R (Collectively Called A300-600), A310, A319, A320, A321, A330, and A340-200 and -300 series airplanes; certificated in any category; as listed in the referenced Airbus service bulletins.” The requirements in paragraph (a) of this AD are for a detailed inspection to determine if certain Thales Avionics pitot probes are installed, and a check of affected pitot probes for certain P/Ns and S/Ns, as specified in the Accomplishment Instructions of the applicable Airbus service bulletin listed in Table 1 of the AD.

Conclusion

After careful review of the available data, including the comments noted above, we have determined that air safety and the public interest require the adoption of the AD with the changes described previously. These changes will neither increase the economic burden on any operator nor increase the scope of the AD.

Cost Impact

We estimate that 758 airplanes of U.S. registry will be affected by this AD, that it will take about 2 work hours per airplane to do the inspection, and that the average labor rate is $65 per work hour. Based on these figures, the cost impact of the inspection required by this AD on U.S. operators is estimated to be $98,540, or $130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it takes about 2 work hours per airplane to do the inspection, at an average labor rate of $65 per work hour. Based on these figures, the cost impact of the inspection is estimated to be $130 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-10-02 Airbus: Amendment 39-13632. Docket 2003-NM-19-AD.

Applicability: Model A300 B4-600, A300 B4-600R, and A300 F4-600R (Collectively Called A300-600); A310; A319; A320; A321; A330; and A340-200 and -300 series airplanes; certificated in any category; as listed in the Airbus service bulletins specified in Table 1 of this AD.

Table 1.—Applicability
Model— | Service bulletin— | Revision— | Date—
A300-600 | A300-34-6149 | Original | April 4, 2003.
A310 | A310-34-2181 | Original | April 4, 2003.
A319, A320, A321 | A320-34-1263 | Original | November 26, 2002.
A319, A320, A321 | A320-34-1263 | 01 | June 25, 2003.
A330 | A330-34-3119 | Original | February 27, 2003.
A340 | A340-34-4130 | Original | February 27, 2003.

Compliance: Required as indicated, unless accomplished previously.

To prevent obstruction of the air intake of the pitot probes, which could result in misleading information being provided to the flightcrew, accomplish the following:

One-Time Detailed Inspection

(a) Within 700 flight hours after the effective date of this AD: Do a detailed inspection to determine if certain Thales Avionics pitot probes are installed, and a check of affected pitot probes for certain part numbers (P/N) and serial numbers (S/N), as specified in the Accomplishment Instructions of the applicable Airbus service bulletin listed in Table 1 of this AD, all excluding Appendix 01. Do the inspection and check (including cleaning and marking the drain hole) by doing all the actions per Part 3.A. through Part 3.E. of the Accomplishment Instructions of the applicable Airbus service bulletin. If the specified P/N and S/N are found, before further flight, clean and mark the drain hole if obstructed, per the Accomplishment Instructions of the applicable Airbus service bulletin. If the specified P/N and S/N are not found, no further action is required by this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: The referenced Airbus service bulletins refer to Thales Avionics Service Bulletin, C16195A-34-002, Revision 01, dated February 7, 2003, as an additional source of service information for the cleaning of the drain holes of the pitot probes.

Alternative Methods of Compliance

(b) In accordance with 14 CFR 39.19, the Manager, International Branch, ANM-116, FAA, Transport Airplane Directorate, is authorized to approve alternative methods of compliance for this AD.

Incorporation by Reference

(c) The actions shall be done in accordance with the Airbus service bulletins specified in Table 2 of this AD, as applicable.

Table 2.—Airbus Service Bulletins
Service bulletin— | Revision— | Date—
A300-34-6149, excluding Appendix 01 | Original | April 4, 2003.
A310-34-2181, excluding Appendix 01 | Original | April 4, 2003.
A320-34-1263, excluding Appendix 01 | Original | November 26, 2002.
A320-34-1263, excluding Appendix 01 |  | June 25, 2003.
A330-34-3119, excluding Appendix 01 | Original | February 27, 2003.
A340-34-4130, excluding Appendix 01 | Original | February 27, 2003.

This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Note 3: The subject of this AD is addressed in French airworthiness directives 2003-148(B), dated April 16, 2003; 2002-586(B) R1, dated April 2, 2002; and 2002-594(B), dated November 27, 2002.

Effective Date

(d) This amendment becomes effective on June 22, 2004.

Issued in Renton, Washington, on May 5, 2004.
Ali Bahrami,
Acting Manager, Transport Airplane Directorate, Aircraft Certification Service.

[FR Doc. 04-10741 Filed 5-17-04; 8:45 am]

BILLING CODE 4910-13-P